DEPARTMENT OF HEALTH AND HUMAN SERVICES

Centers for Disease Control and Prevention

[Program Announcement #99000-P]

Disease, Disability, and Injury Prevention and Control Special Emphasis Panel (SEP): Competitive Supplemental Funds for Comprehensive STD Prevention Systems: Part B: Formative Research To Inform the Development of Educational Messages for Women With High Risk Human Papillomavirus Infection and Their Partners; Meeting

SUMMARY: In accordance with section 10(a)(2) of the Federal Advisory Committee Act (Pub. L. 92-463), the Centers for Disease Control and Prevention (CDC) announces the following meeting.

Name: Disease, Disability, and Injury Prevention and Control Special Emphasis Panel (SEP): Competitive Supplemental Funds for Comprehensive STD Prevention Systems: Part B: Formative Research to Inform the Development of Educational Messages for Women with High Risk Human Papillomavirus Infection and Their Partners, Program Announcement #99000-P, meeting.

Times and Date: 8:30 a.m.-9 a.m., September 13, 2001 (Open); 9 a.m.-4:30 p.m., September 13, 2001 (Closed).

Place: Centers for Disease Control and Prevention, National Center for HIV, STD, and TB Prevention, 12 Corporate Square Blvd., Conference Room 1307, Atlanta, Georgia 30329.

Status: Portions of the meeting will be closed to the public in accordance with provisions set forth in section 552b(c)(4) and (6), Title 5 U.S.C., and the Determination of the Deputy Director for Program Management, CDC, pursuant to Public Law 92-463.

Matters To Be Discussed: The meeting will include the review, discussion, and evaluation of applications received in response to Program Announcement 99000-P.

For Further Information Contact: Beth Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: August 21, 2001.
Carolyn J. Russell,
Director, Management Analysis and Services Office, Centers for Disease Control and Prevention CDC.

[FR Doc. 01-21538 Filed 8-24-01; 8:45 am]

BILLING CODE 4163-18-P